DEPARTMENT OF AGRICULTURE

Natural Resources Conservation Service

Environmental Assessment; Rehabilitation of Floodwater Retarding Structure 35A, Upper Salt Creek Watershed, Lancaster County Nebraska

AGENCY: Natural Resources Conservation Service, USDA.

ACTION: Notice of Availability, Finding of No Significant Impact.

SUMMARY: The Natural Resources Conservation Service (NRCS) has prepared an Environmental Assessment in compliance with the National Environmental Policy Act (NEPA), as amended. Pursuant to the implementing regulations for NEPA (40 CFR parts 1500-1508); the USDA Departmental Policy for the NEPA (7 CFR part 1b); the Natural Resources Conservation Service Regulations (7 CFR part 650); and the Natural Resources Conservation Service policy (General Manual Title 190, Part 410); the Natural Resources Conservation Service gives notice that an environmental impact statement is not being prepared for the rehabilitation of floodwater retarding Structure 35A in Upper Salt Creek Watershed, Lancaster County Nebraska. The Environmental Assessment was developed in coordination with the sponsoring local organization (Lower Platte South Natural Resources District) for a Federally assisted action to address flood control prevention in the Upper Salt Creek Watershed and the status of floodwater retarding dam Structure 35A. Upon consideration of the affected environment, alternatives, environmental consequences, and comments and coordination with concerned public and agencies, the State Conservationist for NRCS, Nebraska found that based on the significance and context and intensity that the proposed action is not a major Federal action significantly affecting the quality of the human environment. Thus, a Finding of No Significant Impact (FONSI) was made.

FOR FURTHER INFORMATION, CONTACT: Stephen K. Chick, State Conservationist, U.S. Department of Agriculture, Natural Resources Conservation Service, Federal Building, Room 152, 100 Centennial Mall North, Lincoln, Nebraska 68508-3866; telephone (402) 437-5300.

SUPPLEMENTARY INFORMATION: The sponsoring local organization concurs with this determination and agrees with carrying forward the proposed project. Structure 35A no longer meets the NRCS safety and performance standards for a High Hazard Class structure. The proposed action is to rehabilitate Structure 35A to current NRCS High Hazard Class requirements and extend its life for 100 years. The following actions are proposed: the existing principal spillway would be removed and replaced, the auxiliary spillway would be widened, the top of dam would be raised, and foundation drains re-established.

Information regarding this finding may be obtained at the contact information listed above. No administrative action on implementation of the proposed funding action will be taken until 30 days after the date of this publication in the Federal Register.

Signed in Lincoln, Nebraska on August 8, 2006.
Stephen K. Chick,
State Conservationist.

[FR Doc. E6-13875 Filed 8-21-06; 8:45 am]

BILLING CODE 3410-16-P